DEPARTMENT OF VETERANS AFFAIRS

Enhanced-Use Lease for Development of Transitional Residential Homeless Program at the Department of Veterans Affairs Medical Center, Butler, PA

AGENCY: Department of Veterans Affairs.

ACTION: Notice of intent to enter into an enhanced-use lease.

SUMMARY: The Secretary of the Department of Veterans Affairs (VA) intends to enter into an enhanced-use lease of approximately 0.46 acres including a 6,000-square foot building at the VA Medical Center (VAMC) in Butler, Pennsylvania. The selected lessee would develop, finance, construct, manage, maintain and operate a transitional residential homeless program. The lessee also would be required to provide VA with in-kind consideration consisting of construction and improvement work on the VAMC campus and services relating to shelter, job preparation, and referrals for health care programs needs.

FOR FURTHER INFORMATION CONTACT: Alan Hackman, Office of Asset Enterprise Management (004B), Department of Veterans Affairs, 810 Vermont Avenue, NW., Washington, DC 20420, (202) 273-5875.

SUPPLEMENTARY INFORMATION: Title 38 U.S.C. section 8161 et seq. specifically provides that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: February 27, 2007.
R. James Nicholson,
Secretary of Veterans Affairs.

[FR Doc. E7-4001 Filed 3-6-07; 8:45 am]

BILLING CODE 8320-01-P